DEPARTMENT OF TRANSPORTATION

Federal Aviation Administration

[Docket No. FAA-2024-2130]

Notice of Intent To Designate as Abandoned Marina Spear Supplemental Type Certificate No. SA4345WE

AGENCY: Federal Aviation Administration (FAA), DOT.

ACTION: Notice of intent to designate supplemental type certificate as abandoned; request for comments.

SUMMARY: This notice announces the FAA's intent to designate Marina Spear Supplemental Type Certificate (STC) No. SA4345WE as abandoned and make the related engineering data available upon request. The FAA has received a request to provide engineering data concerning this STC. The FAA has been unsuccessful in contacting Marina Spear concerning the STCs. This action is intended to enhance aviation safety.

DATES: The FAA must receive all comments by February 24, 2025.

ADDRESSES: You may send comments on this notice by any of the following methods:

• Federal eRulemaking Portal: Go to regulations.gov. Follow the instructions for submitting comments.

• Mail: Ed Mills, AIR-771, Federal Aviation Administration, West Certification Branch, 2200 South 216th St., Des Moines, WA 98198.

• Email: Ed.Mills@faa.gov. Include “Docket No. FAA-2024-2130 in the subject line of the message.

• Hand Delivery: Deliver to Mail address above between 9 a.m. and 5 p.m., Monday through Friday, except Federal holidays.

FOR FURTHER INFORMATION CONTACT: Ed Mills, Program Manager, AIR-771, Federal Aviation Administration, West Certification Branch, 2200 South 216th St., Des Moines, WA 98198; telephone: 206-231-3515; email: Ed.Mills@faa.gov.

SUPPLEMENTARY INFORMATION:

Comments Invited

The FAA invites interested parties to provide comments, written data, views, or arguments relating to this notice. Send your comments using a method listed under the ADDRESSES section. Include “Docket No. FAA-2024-2130 at the beginning of your comments. The FAA will consider all comments received on or before the closing date. All comments received will be available in the docket for examination by interested persons.

Background

The FAA is posting this notice to inform the public that the FAA intends to designate Marina Spear STC No. SA4345WE as abandoned for the installation of cooling louvers in the top cowling on Piper Aircraft, Inc. Model PA-32RT-300T aircraft, and subsequently release the related engineering data.

The FAA has received a third-party request for the release of the aforementioned engineering data under the provisions of the Freedom of Information Act (FOIA), 5 U.S.C. 552. The FAA cannot release commercial or financial information under FOIA without the permission of the data owner. However, in accordance with title 49 of the United States Code 44704(a)(5), the FAA can provide STC “engineering data” it possesses for STC maintenance or improvement, upon request, if the following conditions are met:

1. The FAA determines the STC has been inactive for 3 years or more;

2. Using due diligence, the FAA is unable to locate the owner of record or the owner of record's heir; and

3. The availability of such data will enhance aviation safety.

There has been no activity on this STC for more than 3 years.

On May 29, 2021, the FAA sent a registered letter to Marina Spear at its last known address: 875 Rio Virgin Drive #235, St. George, UT 84770. The letter informed Marina Spear that the FAA had received a request for engineering data related to STC No. SA4345WE and was conducting a due diligence search to determine whether the STC was inactive and may be considered abandoned. The letter further requested that the company respond in writing within 60 days and state whether it is the holder of the STC. The FAA also attempted to make contact with Marina Spear by other means, including telephone communication and internet searches, without success.

Information Requested

If you are the owner or heir or a transferee of STC No. SA4345WE or have any knowledge regarding who may now hold STC No. SA4345WE, please contact Ed Mills using a method described in this notice under FOR FURTHER INFORMATION CONTACT. If you are the heir of the owner, or the owner by transfer, of STC No. SA4345WE, you must provide a notarized copy of your government-issued identification with a letter and background establishing your ownership of the STC and, if applicable, your relationship as the heir to the deceased holder of the STC.

Conclusion

If the FAA does not receive any response by February 24, 2025, the FAA will consider STC No. SA4345WE abandoned, and the FAA will proceed with the release of the requested data. This action is for the purpose of maintaining the airworthiness of an aircraft and enhancing aviation safety.

Issued on August 21, 2024.
Steven W. Thompson,
Acting Deputy Director, Compliance & Airworthiness Division, Aircraft Certification Service.

[FR Doc. 2024-19143 Filed 8-26-24; 8:45 am]

BILLING CODE 4910-13-P